DEPARTMENT OF THE INTERIOR

Fish and Wildlife Service

[FWS-R2-R-2011-N198; 1265-0000-10137-S3]

Willamette Valley National Wildlife Refuge Complex, Corvallis, OR; Final Comprehensive Conservation Plan and Finding of No Significant Impact for Environmental Assessment

AGENCY: Fish and Wildlife Service, Interior.

ACTION: Notice of availability.

SUMMARY: We, the U.S. Fish and Wildlife Service (Service), announce the availability of our final comprehensive conservation plan (CCP) and a finding of no significant impact (FONSI) for the environmental assessment (EA) for the Willamette Valley National Wildlife Refuges (NWRs/refuges). In this final CCP, we describe how we will manage these refuges for the next 15 years. Implementing the CCP is subject to the availability of funding and any additional compliance requirements.

ADDRESSES: You may view or obtain copies of the final CCP and FONSI/EA by any of the following methods. You may request a hard copy or CD-ROM.

Agency Web Site: Download a copy of the document at http://www.fws.gov/pacific/planning.

Email: FW1PlanningComments@fws.gov. Include “Willamette Valley NWR FCCP/EA” in the subject line.

Fax: Attn: Doug Spencer, Project Leader, (541) 757-4450.

U.S. Mail: Doug Spencer, Project Leader, Willamette Valley National Wildlife Refuge Complex, 26208 Finley Refuge Road, Corvallis, Oregon 97333-9533.

In-Person Viewing or Pickup: Call (541) 757-7236 to make an appointment during regular business hours at W.L. Finley National Wildlife Refuge, 26208 Finley Refuge Road, Corvallis, Oregon 97333-9533.

FOR FURTHER INFORMATION CONTACT: Doug Spencer, Project Leader, (541) 757-7236.

SUPPLEMENTARY INFORMATION:

Introduction

With this notice, we announce the completion of the CCP process for the Willamette Valley National Wildlife Refuges. The Service started this process through a notice of intent in the Federal Register (73 FR 11137; February 29, 2008). We released the draft CCP/EA to the public, announcing and requesting comments in a notice of availability in the Federal Register (76 FR 30382; May 25, 2011).

The Willamette Valley National Wildlife Refuge Complex includes three refuges: William L. Finley, Baskett Slough, and Ankeny. Together, the three refuges encompass approximately 11,110 acres in western Oregon. Habitats on the refuges include seasonal, semipermanent, and permanent wetlands; wet prairies, upland prairie/oak savannas, oak woodlands, mixed deciduous-coniferous forests, riparian, riverine, and stream habitats. Agricultural lands, the majority managed as grass fields, are also present on the refuges. The refuges were established under the Migratory Bird Conservation Act “for use as an inviolate sanctuary or for any other management purpose, for migratory birds * * * to conserve and protect migratory birds * * * and to restore or develop adequate wildlife habitat,” with emphasis on protecting dusky Canada geese. In the last four decades, these refuges have provided not only an important wintering grounds for the dusky Canada goose and thousands of other wintering geese and ducks, but also have been recognized more recently as increasingly important areas for conservation of the remaining fragments of the native Willamette Valley habitats and biota. The refuges support key populations of federally listed species, including Oregon chub, Fender's blue butterfly, Bradshaw's desert-parsley, Kincaid's lupine, Nelson's checker-mallow, and Willamette daisy, and provide migration habitat for listed Chinook salmon and steelhead. Several other rare species are also found on the refuges.

We announce our CCP decision and the availability of a FONSI for the final EA for Willamette Valley NWRs in accordance with the National Wildlife Refuge System Administration Act of 1966 (16 U.S.C. 668dd-668ee) (Refuge Administration Act) and National Environmental Policy Act (NEPA) (40 CFR 1506.6(b)) requirements. We prepared an analysis of environmental impacts, which we included in an EA that accompanied the draft CCP.

The CCP will guide us in managing and administering the refuges for the next 15 years. Alternative 2, as described in the draft CCP, is the basis of the final CCP.

Background

The Refuge Administration Act, as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public, including opportunities for compatible hunting, fishing, wildlife observation and photography, and environmental education and interpretation. We will review and update the CCP at least every 15 years in accordance with the Refuge Administration Act.

CCP Alternatives, Including Selected Alternative

Our draft CCP/EA (76 FR 30382; May 25, 2011) discussed several issues. To address these, we developed and evaluated the following alternatives.

Alternative 1 (No Action)

Under Alternative 1, we analyzed the following ongoing actions:

• Maintaining cultivated grass fields under a cooperative farming program to provide forage for wintering Canada geese;

• Managing wetland habitats and providing sanctuary for geese;

• Managing and enhancing the existing areas of native habitats;

• Continuing habitat and population management for endangered and threatened species;

• Providing wildlife observation, interpretation, environmental education, fishing, and hunting with current facilities and programs; and

• Maintaining the current area closed to wintertime public access to provide sanctuary during the wintering waterfowl season.

Alternative 2 (Selected Action)

Alternative 2, our preferred alternative, represents a balanced approach among the many competing needs at the refuges. Overall, habitat and compatible public use programs will continue as currently managed but with many targeted improvements and additions. Implementing these actions is subject to the availability of funding and any additional compliance requirements.

An emphasis on providing habitat for wintering geese will remain. Green forage for geese will continue to be provided primarily through cooperative farming agreements with local farmers. The Service will pursue measures to help retain the services of cooperative farmers, such as:

• Providing enhanced irrigation capabilities (these will help the farmers to better establish green forage crops and perhaps grow other cash crops);

• Providing additional lure crops such as corn or other grains;

• Taking over farming on certain high goose use fields; and/or

• Offsetting a portion of the costs to cooperative farmers; etc.

• Goose use should be no less than under Alternative 1 and could increase if specific goose management strategies are implemented. Wetland habitat management and restoration activities will also be intensified to improve habitat for geese and other wildlife.

Management and enhancement will continue in remnant native habitats and recently restored areas. In addition, approximately 845 additional acres on the three refuges will be restored to wetland, wet prairie, riparian, oak woodland, or upland prairie/oak savanna habitats over the next 15 years.

Threatened and endangered species management will continue to be a priority, guided by recovery plans where applicable. Existing populations of several threatened and endangered species will be strengthened through habitat management activities, and several new populations will be established on the refuges.

Wildlife observation and interpretation will continue to be emphasized as the cornerstone of the public use program. Several new trails and viewing facilities are planned, as well as interpretive signs and materials, including online materials. In addition, major special events are planned at a frequency of about 3-4/year, with monthly weekend interpretive programs.

This alternative includes expansion of environmental education efforts, with an objective of reaching more students and schools, particularly at W.L. Finley Refuge. Outdoor classroom shelters are part of the alternative. In addition, a goal of this alternative is a new Environmental Education Center, indoor classroom facilities, and an interpretive exhibit area on W.L. Finley Refuge. This will depend on available funding.

A new option to hunt deer of either sex will be added on W.L. Finley Refuge. In addition, new upland locations will be available for deer hunting during a portion of the restricted firearms season; this will require closure of two hiking trails for a week in November. The restricted firearms season will be shortened and shifted to later in the State season. A youth waterfowl hunt and a September goose hunt will be provided at Baskett Slough Refuge. Fishing will be promoted at the Willamette River by developing safe fishing access and a canoe launch at Snag Boat Bend Unit.

The current area closed to public access will remain closed, in order to provide sanctuary during the wintering waterfowl season on the three refuges. However, the major portions of the Snag Boat Bend Unit will be open year-round.

The refuges will develop an elk management plan cooperatively with the Oregon Department of Fish and Wildlife after completion of the CCP (within 1-2 years of CCP implementation). The refuges will continue to expand conservation partnerships, volunteer programs, and outreach to local communities. Proactive cultural resource management will occur by repairing/maintaining the historic structures on W.L. Finley Refuge and by adding associated interpretive facilities.

Under the selected action, the Service also proposes protection, conservation, and management of additional lands within the Willamette Valley that could contribute to refuge purposes and goals by providing wintering habitat and forage for Canada geese; providing protection, enhancement, and restoration of native habitats and rare Willamette Valley species; and providing opportunity for additional wildlife-dependent public use. The refuges will undertake a subsequent land protection planning process to identify specific tracts of lands for these purposes.

Alternative 3

This alternative was analyzed but not selected. Alternative 3 included a major shift in management for wintering Canada geese. Forage would have been provided either through contract farming (paying farmers to grow crops on the refuges) and/or force account farming (refuge staff doing the farming). The refuges would have farmed only fields that were receiving moderate-to-high goose use. Refuge farming program costs would have increased and goose use would have likely decreased.

This alternative would have created the opportunity to restore approximately 1,564 acres of cropland to native habitat over the next 15 years, since the amount of farmland would be reduced. However, the fields to be restored would have likely lain fallow, open to nonnative plant introduction, while awaiting staff time and funding for restoration.

Wildlife observation and interpretation would have continued to be emphasized as the cornerstone of the public use program. About a third to half as many new observation facilities (trails, viewing overlooks, etc.) would have been added as under Alternative 2, due to staffing and funding resources being directed toward refuge farming activity. The current area closed to public access on all three refuges would have remained closed, in order to provide sanctuary during the wintering waterfowl season, except for the proposed change at Snag Boat Bend as described in Alternative 2 above. Fishing access to the Willamette River would have been provided through a canoe launch at Snag Boat Bend Unit; however, bank fishing access would not have been provided.

Deer hunting, threatened and endangered species management, environmental education, elk management, cultural resources, subsequent land protection planning, and conservation partnership activity would have occurred as under Alternative 2.

Comments

We solicited comments on the draft CCP/EA from May 25, 2011, to June 24, 2011 (76 FR 30382; May 25, 2011). A total of 27 separate communications from 25 different commenters (two commenters submitted two letters each) were received regarding the draft CCP/EA. To address public comments, responsive changes and clarifications were made to the final CCP where appropriate. These changes are summarized in the FONSI.

Selected Alternative

After considering the comments received, we have selected Alternative 2 for implementation. The goals, objectives, and strategies under Alternative 2 best achieve the purpose and need for the CCP while maintaining balance among the varied management needs and programs. Alternative 2 addresses the refuge purposes, issues, and relevant mandates, and is consistent with principles of sound fish and wildlife management.

Dated: October 20, 2011.
Robyn Thorson,
Regional Director, Pacific Region, Portland, Oregon.

[FR Doc. 2012-3759 Filed 2-16-12; 8:45 am]

BILLING CODE 4310-55-P